DEPARTMENT OF LABOR

Veterans' Employment and Training Service

Agency Information Collection Activities; Proposed Collection; Request for Comments: VETS 300, SF 269A, and Manager's Report

AGENCY: Veterans' Employment and Training Service, Labor.

ACTION: Notice.

SUMMARY: The Department of Labor, as part of its continuing effort to reduce paperwork and respondent burden, conducts a pre-clearance consultation program to provide the general public and Federal agencies with an opportunity to comment on the proposed continued collections of information in accordance with the Paperwork Reduction Act of 1995 (PRA95) [44 U.S.C. 3506(c)(2)(A)]. The Paperwork Reduction Act helps to ensure that requested data can be provided in the desired format, reporting burden (time and financial resources) is minimized, collection instruments are clearly understood, and the impact of collection requirements on respondents can be properly assessed. Currently, VETS is soliciting comments concerning the proposed extension of the information collection request for the Manager's Report and replacement of the VETS-300, Quarterly Financial Status Reports with the OMB approved Standard Form (SF) 269A Reports for cost information collection.

DATES: Comments are to be submitted by January 3, 2005.

ADDRESSES: Comments are to be submitted to Paul Robertson, Regulatory Specialist, Office of Agency Management and Budget, Veterans' Employment and Training Service, U.S. Department of Labor, Room S-1312, 200 Constitution Ave., NW., Washington, DC 20210. Electronic mail (e-mail) is the preferred method for submitting comments. Comments must be clearly identified as pertaining to this Federal Register Notice. E-mail may be sent to robertson.paul@dol.gov. Written comments are limited to 10 pages or fewer and may also be transmitted by facsimile to (202) 693-4755 (this is not a toll free number). Receipt of submissions, whether by U.S. mail, e-mail or FAX transmittal, will not be acknowledged; however, the sender may request confirmation that a submission has been received, by telephoning VETS at (202) 693-4708 (VOICE) or (202) 693-4753 (TTY/TDD).

FOR FURTHER INFORMATION CONTACT: Contact Pamela Langley, Interim Chief, Division of Employment and Training Programs, VETS, at the Department of Labor, Room S-1312, 200 Constitution Avenue, NW., Washington, DC 20210, or by e-mail at langley.pamela@dol.gov. Copies of the referenced information collection request are available for inspection and copying through VETS and will be mailed to persons who request copies by contacting Pamela Langley at (202) 693-4708.

SUPPLEMENTARY INFORMATION:

I. Background

Each State Workforce Agency Office has been required to submit the VETS 300 and Manager's Reports on a quarterly basis, with one additional VETS 300, Final Fiscal Year Report. With the passage of Public Law 107-288, the Jobs for Veterans Act of 2002, enacted November 7, 2002, the quarterly and final VETS-300 Cost Accounting Reports are no longer required to be submitted. The OMB approved SF 269A Quarterly Financial Report contains sufficient information to replace the VETS-300 Reports. The VETS-300 reports will, therefore, be eliminated when the current form expires in December of 2004.

Title 38 U.S.C. requires a report on employment and training services provided to veterans and eligible persons by the local employment service delivery system. This report is provided to the Director for Veterans' Employment and Training (DVET) each fiscal quarter. It addresses the service delivery point's performance and compliance with Federal law and regulations on the prioritization and provision of services to veterans and eligible persons. Section V. G. of the Special Grant Provisions and Veterans' Program Letter 09-03, require this report to include, as a minimum, an analysis of compliance with applicable measures of service or standards of performance and the quantity, quality and character of services provided to veterans and eligible persons, to include Vocational Rehabilitation and Employment activity.

II. Desired Focus of Comments

Currently VETS is soliciting comments concerning the proposed three-year extension of the information collection request for the Manager's Report. The Department of Labor is particularly interested in comments which:

• Evaluate whether the proposed collection of information is necessary for the proper performance of the functions of the agency, including whether the information will have practical utility;

• Evaluate the accuracy of the agency's estimate of the burden of the proposed collection of information; including the validity of the methodology and assumptions used.

• Enhance the quality, utility, and clarity of the information to be collected; and

• Minimize the burden of the collection of information on those who are to respond, including through the use of appropriate automated, electronic, mechanical, or other technological collection techniques or other forms of information technology, e.g., permitting electronic submissions of responses.

III. Current Actions

This notice requests extended approval from OMB for the quarterly collection of information, electronic or mechanical submission, and other paperwork requirements of the Manager's Report on Services to Veterans.

Type of Review: Extension of a currently approved collection.

Agency: Veterans' Employment and Training Service.

Title: VETS 300, Manager's Report and SF 269A.

OMB Number: 1293-0009.

Affected Public: State, Local, and Tribal Governments.

Reports | Number of respondents | Number of responses | Frequency | Average (response time (hours) | Estimate burden hours
Manager's Report | 1,600 | 6,400 | Quarterly | 4.00 | 25,600
SF 269A | 53 | 530 | Quarterly | .30 | 159
Total | 1,653 | 6,930 |  |  | 25,759

Total Annualized Capital/startup costs: $0.

Total Initial Annual Costs: $0.

Comments submitted in response to this notice will be summarized and included in the agency's request for OMB approval of the information collection request. Comments will become a matter of public record.

Dated at Washington, DC, this 29th day of October, 2004.
Frederico Juarbe Jr.,
Assistant Secretary.

[FR Doc. 04-24640 Filed 11-3-04; 8:45 am]

BILLING CODE 4510-79-P